ENVIRONMENTAL PROTECTION AGENCY

40 CFR Part 136

[Docket Number OW-2004-0041; FRL-7855-9]

Stakeholder Process for Detection and Quantitation Procedures; Notice of Public Meeting and Request for Nominations to a Federal Advisory Committee on Detection and Quantitation Procedures and Uses in Clean Water Act (CWA) Programs

AGENCY: Environmental Protection Agency (EPA).

ACTION: Notice of meeting.

SUMMARY: There will be a half-day public meeting on January 26, 2005, to present the findings and recommendations in the Situation Assessment Report on Detection and Quantitation Approaches and Uses in Clean Water Act (CWA) Programs (Situation Assessment Report). In addition, USEPA invites nominations of qualified candidates to be considered for appointment to the Federal Advisory Committee on Detection and Quantitation Approaches and Uses in Clean Water Act (CWA) Programs. The purpose of this committee will be to reach agreement and provide advice on: A common set of terms and concepts; one or more specific approaches and/or procedures for detection and quantitation for use in Clean Water Act programs; and interpretation and uses of the numbers that result from the testing procedures.

DATES: The meeting will be held on Tuesday, January 26, 2005, from 1:30 p.m. until approximately 4:30 p.m., Eastern Standard Time. Nominations for the committee will be accepted until 5 p.m. on February 9, 2005.

ADDRESSES: The meeting will be held at the U.S. Environmental Protection Agency, 1200 Pennsylvania Avenue, NW., Washington, DC 20460, Ariel Rios South Building, NETI Conference Room 6226. Nominations may be submitted electronically, by mail, or through hand delivery/courier. Follow the detailed instructions as provided in III. Composition and Organization. To protect personal information from disclosure to the public, do not submit nomination material to the docket of the Federal Advisory Committee on Detection and Quantitation Approaches and Uses in Clean Water Act (CWA) Programs or through any online commenting system. Submit nomination materials to: Mary T. Smith, Director, Engineering and Analysis Division, MC 4303T, U.S. Environmental Protection Agency, 1200 Pennsylvania Ave., NW., Washington, DC 20460, T: 202-566-1000, F: 202-566-1053, e-mail Smith.Maryt@EPA.GOV.

FOR FURTHER INFORMATION CONTACT: Marion Kelly, Engineering and Analysis Division, MC4303T, U.S. Environmental Protection Agency, 1200 Pennsylvania Ave., NW., Washington, DC 20460; Telephone number: (202) 566-1045; Fax number: (202) 566-1053; E-mail address: Kelly.Marion@EPA.GOV.

SUPPLEMENTARY INFORMATION:

I. General Information

On September 15, 2004, EPA announced its intention to have a neutral third party conduct a situation assessment to determine whether a stakeholder process for detection and quantitation procedures should proceed and, if so, how that process should be designed. 69 FR 55547. The neutral third party has conducted the situation assessment with affected stakeholders and has solicited their ideas for the design of multi-party discussions on the policy and technical issues surrounding the development of detection and quantitation procedures and uses of those procedures in Clean Water Act (CWA) programs. The neutral third party has presented its recommendations to the Agency in a document entitled Situation Assessment Report on Detection and Quantitation Approaches and Uses in Clean Water Act (CWA) Programs. The recommendations contained in the report will be the primary topic of discussion at the public meeting.

II. Request for Nominations

The Federal Advisory Committee on Detection and Quantitation Approaches and Uses in Clean Water Act (CWA) Programs (hereinafter referred to as the Detection and Quantitation Advisory Committee) is being established under the Federal Advisory Committee Act (FACA), 5 U.S.C. App. 2 (Public Law 92-463), and copies of the Committee Charter will be filed with the appropriate committees of Congress and the Library of Congress. The Detection and Quantitation Advisory Committee will provide advice and recommendations to the Agency regarding the detection and quantitation procedures used in Clean Water Act programs. The Detection and Quantitation Advisory Committee will hold meetings, analyze issues, conduct reviews, produce reports, make necessary recommendations, and undertake other activities necessary to meet its responsibilities. The objectives of the Committee are to provide advice and recommendations to EPA in areas such as: a common set of terms and concepts; one or more specific approaches and procedures for detection and quantitation for use in Clean Water Act programs; and interpretation and uses of the numbers that result from detection and quantitation procedures.

III. Composition and Organization

The Committee will be composed of approximately 20 members. EPA will have a balanced representation of members in terms of points of view represented and the scope of the activities of the Committee. An EPA employee will act as the Designated Federal Official (DFO) who will be responsible for providing the necessary staffing, operations, and support for the Committee. The agency is seeking qualified senior-level professionals from diverse sectors throughout the United States to be considered for membership on the Committee. The Agency is seeking representation from among, but not limited to, the groups listed below. Please indicate in your submittal the sector with which the nominee is most closely associated and the organization, group or perspective the nominee would represent: State government; environmental professionals; regulated industry; environmental laboratories; Publicly Owned Treatment Works; and the environmental community. Establishing a balance and diversity of technical and policy experience, knowledge, and judgement, will be important considerations in the selection of members. EPA also plans to use technical experts who will be available to help the Committee understand technical concepts and provide technical assistance to the Committee. Such experts will not be members of the Committee and will not participate in the Committee's deliberations.

All Committee meetings will be called, announced, and held in accordance with FACA requirements, including public notice of meetings in the Federal Register, open meetings, and an opportunity for interested persons to file comments before or after meetings, or to make statements during the public meetings to the extent time permits. The U.S. Environmental Protection Agency (EPA) invites nominations of qualified candidates to be considered for appointments to the Federal Advisory Committee on Detection and Quantitation Approaches and Uses in Clean Water Act (CWA) Programs. Representatives from State governments, industry, wastewater treatment plants, environmental laboratories and the environmental community are especially encouraged to apply. EPA may use additional avenues and resources to solicit nominees. In particular, the Agency will consider the recommendations contained in the document, Situation Assessment Report on Detection and Quantitation Approaches and Uses in Clean Water Act (CWA) Programs, which is available on the Internet at http://www.epa.gov/waterscience/methods/det/.

The deadline for EPA to receive nominations is February 9, 2005. Appointments will be made by the Deputy Administrator of the U.S. Environmental Protection Agency. Appointments are expected to be announced in March 2005. Nominations for membership must include a resume describing the professional and educational qualifications of the nominee and the group or interest the person would represent. Contact details should include full name and title, business mailing address, telephone, fax, and e-mail address. A supporting letter of endorsement is also recommended.

IV. Does the Public Meeting Apply to Me?

The meeting on January 26, 2005, is open to the general public, and may be of interest to persons who are or may be required to perform analytical test measurements for reporting and compliance under the National Pollutant Discharge Elimination System (NPDES) under the CWA, including regulated industry, environmental groups, State governments, publicly owned treatment works (POTWs) and environmental laboratories. Since various individuals or groups may be interested, the Agency has not attempted to describe all the specific entities that may be affected by this action. If you have any questions regarding this meeting, please consult the individual identified under FOR FURTHER INFORMATION CONTACT.

V. How Can I Get Copies of This Document and Other Related

Information?

You may access this Federal Register document electronically through the Internet under the “Federal Register” listings at http://www.epa.gov/fedrgstr/. You may obtain an electronic copy of the Situation Assessment Report on Detection and Quantitation Approaches and Uses in Clean Water Act (CWA) Programs on the Internet at http://www.epa.gov/waterscience/methods/det/. This document will be available as soon as possible, but no later than January 4, 2005. The docket number is OW-2004-0041. If you require a printed copy of the report, contact the individual identified under FOR FURTHER INFORMATION CONTACT.

VI. How May I Participate in This Meeting?

Members of the general public are encouraged to attend this meeting in person. Anyone wishing to participate via teleconference should contact the individual listed under FOR FURTHER INFORMATION CONTACT at least 5 business days prior to the meeting so that appropriate arrangements can be made. Members of the general public are invited to pose questions on the Situation Assessment Report. Each individual or group wishing to make prepared comments should submit their request to the individual listed under FOR FURTHER INFORMATION CONTACT before the date of the meeting in order to be included in the meeting agenda. The request should identify the name of the individual making the presentation, the organization (if any) the individual will represent, and any requirements for audiovisual equipment (e.g., overhead projector, 35mm projector, chalkboard). Each speaker should bring 30 copies of his or her comments and presentation slides for distribution at the meeting. Other interested persons who did not pre-register may also present prepared comments at the meeting if time permits. Seating at the meeting will be on a first-come, first-served basis. Individuals requiring special accommodations at this meeting, including wheelchair access and assistance for the hearing impaired, should contact the individual listed under FOR FURTHER INFORMATION CONTACT at least 5 business days prior to the meeting so that appropriate arrangements can be made.

List of Subjects in 40 CFR Part 136

Environmental protection, Analytical methods, Wastewater, NPDES, FACA.

Dated: December 22, 2004.
Geoffrey H. Grubbs,
Director, Office of Science and Technology.

[FR Doc. 04-28497 Filed 12-28-04; 8:45 am]

BILLING CODE 6560-50-P